DEPARTMENT OF EDUCATION

Applications for New Awards; Braille Training Program

AGENCY: Office of Special Education and Rehabilitative Services, Department of Education.

ACTION: Notice.

SUMMARY: The Department of Education (Department) is issuing a notice inviting applications for fiscal year (FY) 2024 for the Braille Training program, Assistance Listing Number 84.235E. This notice relates to the approved information collection under OMB control number 1894-0006.

DATES:

Applications Available: March 13, 2024.

Deadline for Transmittal of Applications: May 13, 2024.

Date of Pre-Application Meeting: No later than March 18, 2024, the Office of Special Education and Rehabilitative Services (OSERS) will post a PowerPoint Presentation specifically about the Braille Training program at https://ncrtm.ed.gov/grant-info. In addition to posting the PowerPoint, OSERS will conduct a pre-application meeting specific to this competition via conference call to respond to questions. Information about the pre-application meeting will be available at https://ncrtm.ed.gov/grant-info prior to the date of the call. OSERS invites you to send questions to 84.235E@ed.gov in advance of the pre-application conference call. A summary of questions and responses will be available at https://ncrtm.ed.gov/grant-info within six business days after the pre-application conference call.

Deadline for Intergovernmental Review: July 11, 2024.

ADDRESSES: For the addresses for obtaining and submitting an application, please refer to our Common Instructions for Applicants to Department of Education Discretionary Grant Programs, published in the Federal Register on December 7, 2022 (87 FR 75045), and available at www.federalregister.gov/d/2022-26554.

FOR FURTHER INFORMATION CONTACT: Theresa DeVaughn, U.S. Department of Education, 400 Maryland Avenue SW, Room 4A110, Washington, DC 20202-5076. Telephone: (202) 987-0144. Email: 84.235E@ed.gov.

If you are deaf, hard of hearing, or have a speech disability and wish to access telecommunications relay services, please dial 7-1-1.

SUPPLEMENTARY INFORMATION:

Full Text of Announcement

I. Funding Opportunity Description

Purpose of Program: The Braille Training program offers financial assistance to projects that will (1) provide training in the use of braille for personnel providing vocational rehabilitation (VR) services or educational services to youth and adults who are blind; (2) develop braille training materials; (3) develop methods used to teach braille; and (4) develop activities used to promote the knowledge and use of braille and nonvisual access technology for youth and adults who are blind.

Background: The Braille Training program partners with States and public nonprofit agencies and organizations, including institutions of higher education, to provide information, material, equipment, and training in braille instruction. The support provided by the program will increase the knowledge and skills of personnel providing VR services or educational services to youth and adults who are blind.

The Department's invitational priorities align with the Secretary's Supplemental Priorities published in the Federal Register on December 10, 2021 (86 FR 70612) to encourage applicants to promote educational equity and adequacy in resources and opportunities for underserved students, increase the proportion of well-prepared, diverse, and effective educators serving students, with a focus on underserved students, and to encourage applicants to incorporate innovative technology into the project design and delivery of services.

Priorities: This notice includes one absolute priority and three invitational priorities. In accordance with 34 CFR 75.105(b)(2)(v), the absolute priority is from section 303(d) of the Rehabilitation Act of 1973, as amended (29 U.S.C. 773(d)).

Absolute Priority: For FY 2024 and any subsequent year in which we make awards from the list of unfunded applications from this competition, this priority is an absolute priority. Under 34 CFR 75.105(c)(3), we consider only applications that meet this priority.

The priority is:

Braille Training Program

Under this priority, we provide grants for the establishment or continuation of projects that provide—

(1) Development of braille training materials;

(2) In-service or pre-service training in the use of braille, the importance of braille literacy, and methods of teaching braille to youth and adults who are blind; and

(3) Activities to promote knowledge and use of braille and nonvisual access technology for blind youth and adults through a program of training, demonstration, and evaluation conducted with leadership of experienced blind individuals, including the use of comprehensive, state-of-the-art technology.

Invitational Priorities: For FY 2024 and any subsequent year in which we make awards from the list of unfunded applications from this competition, these priorities are invitational priorities. Under 34 CFR 75.105(c)(1) we do not give an application that meets one or more of these invitational priorities a competitive or absolute preference over other applications.

These priorities are:

Invitational Priority 1

Projects designed to promote educational equity and adequacy in resources for underserved students and adults who are blind, especially those located in rural areas, in one of more of the following educational settings: (1) Early learning programs, (2) Elementary school, (3) Middle school, (4) High school, (5) Career and technical education programs, (6) Out-of-school-time settings, (7) Alternative schools and programs, (8) Juvenile justice-system or correctional facilities, and (9) Adult learning. Projects will expand access to high-quality braille training, including in school-based and community-based settings, by providing braille instruction in the areas of literacy and Science, Technology, Engineering, and Math (STEM), including mathematical and scientific notations, and by removing barriers through implementation of programs that are inclusive with regard to race, ethnicity, culture, language, and disability status.

Invitational Priority 2

Projects designed to increase the number and proportion of experienced and effective braille educators and instructors from traditionally underrepresented backgrounds or the communities they serve, including rural areas, to ensure that underserved students and adults, including those in rural areas, have educators from those backgrounds and communities, and are not taught at disproportionately higher rates by out-of-field and novice teachers compared to their peers. Projects will also identify and disseminate pedagogical practices in braille training that are inclusive with regard to race, ethnicity, culture, language, and disability status so that braille educators and instructors are better prepared to create inclusive, supportive, equitable, unbiased, and identity-safe learning environments for underserved students and adults who are blind.

Invitational Priority 3

Projects that design and deliver instruction to individuals who are blind that effectively integrate innovative technology and provide opportunities for individuals who are blind to apply braille technology in authentic and real-world settings, such as project-based, work-based, or other relevant experiential learning opportunities that will allow individuals with disabilities who are blind to think critically, solve complex problems, communicate and collaborate with others, and support their educational and career goals.

Under this invitational priority, innovative technology that could be integrated into the project design includes, but is not limited to: (1) Braille translation, such as software that converts text from digital formats (i.e., websites, e-books) into braille; (2) Braille displays, such as converting digital text into braille characters; (3) Voice assistants that can provide audio feedback to braille users, helping them navigate and interact with digital interfaces more efficiently; (4) Language driven translation tools that can be adapted to translate content from one language to another and provide the output in braille, making it easier for braille users to access information in multiple languages; (5) Braille notation to assist in creating braille notation in STEM and art, making these fields more accessible to braille users; (6) Descriptive media to explain visual information needed to understand content; (7) Technology that generates braille controlled (i.e., limited use of certain syllable types, such as phonemes, and braille contractions) specific passages and stories for individuals who are blind based on their abilities and skill sets; and (8) Other relevant innovative technology to promote knowledge and use of braille and nonvisual access technology for individuals who are blind. The use of any technology in this list is not required, and the use of any example does not provide an applicant any advantage in this competition. The list is included to assist the applicant in understanding the invitational priority.

Definitions

For purposes of the invitational priorities, the following definitions apply:

Children or students with disabilities means children with disabilities as defined in section 602(3) of the Individuals with Disabilities Education Act (IDEA) (20 U.S.C. 1401(3)) and 34 CFR 300.8, or students with disabilities, as defined in the Rehabilitation Act of 1973 (29 U.S.C. 705(37)).

Educator means an individual who is an early learning educator, teacher, principal, or other school leader, specialized instructional support personnel (e.g., school psychologist, counselor, school social worker, early intervention service personnel), paraprofessional, or faculty.

English learner means an individual who is an English learner as defined in section 8101(20) of the Elementary and Secondary Education Act of 1965, as amended, or an individual who is an English language learner as defined in section 203(7) of the Workforce Innovation and Opportunity Act.

Underserved student means a student (which may include children in early learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student who is the first in their family to attend postsecondary education.

(p) A student enrolling in or seeking to enroll in postsecondary education for the first time at the age of 20 or older.

(q) A student who is working full-time while enrolled in postsecondary education.

(r) A student who is enrolled in or is seeking to enroll in postsecondary education who is eligible for a Pell Grant.

(s) An adult student in need of improving their basic skills or an adult student with limited English proficiency.

(t) A student performing significantly below grade level.

(u) A military- or veteran-connected student.

Program Authority: 29 U.S.C. 773(d).

Note: Projects will be awarded and must be operated in a manner consistent with the nondiscrimination requirements contained in Federal civil rights laws.

Applicable Regulations: (a) The Education Department General Administrative Regulations in 34 CFR parts 75, 77, 79, 81, 82, 84, 86, 97, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education only.

II. Award Information

Type of Award: Grant.

Estimated Available Funds: $342,000.

The Administration has requested $7.3 million for the Training and Demonstration Programs for FY 2024, of which we intend to use $342,000 for this competition. The actual level of funding, if any, depends on final congressional action. However, we are inviting applications to allow enough time to complete the grant process if Congress appropriates funds for this program.

Contingent upon the availability of funds and the quality of applications, we may make additional awards in subsequent years from the list of unfunded applications from this competition.

Estimated Average Size of Awards: Year 1: $115,000; Years 2-5: $230,000.

Maximum Award: Year 1: We will not make an award exceeding $115,000 for the first budget period of 12 months; Years 2-5: We will not make an award exceeding $230,000 for each budget period of 12 months.

Note: Applicants must describe, in their applications, the amount of funding being requested for each 12-month budget period.

Estimated Number of Awards: 3.

Project Period: Up to 60 months.

Note: The Department is not bound by any estimates in this notice.

III. Eligibility Information

1. Eligible Applicants: States and public or nonprofit agencies and organizations, including institutions of higher education.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may not award subgrants to directly carry out project activities described in its application. Under 34 CFR 75.708(e), a grantee may contract for supplies, equipment, and other services in accordance with 2 CFR 200.317-200.326, Procurement Standards.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the resumes, the reference list, the letters of support, or the appendices. However, the recommended page limit does apply to all of the application narrative, including all text in charts, tables, figures, graphs, and screen shots. Applicants are expected to make the contents of their application accessible for individuals with disabilities to the maximum extent possible. Tutorials and resources for making documents accessible are available for free on RSA's National Clearinghouse for Rehabilitation Training Materials at https://ncrtm.ed.gov/accessibility-resources.

V. Application Review Information

1. Selection Criteria: The selection criteria for this competition are from 34 CFR 75.210, have a maximum score of 100 points, and are as follows:

(a) Need for project. (10 points)

(1) The Secretary considers the need for the proposed project.

(2) In determining the need for the proposed project, the Secretary considers the following factors:

(i) The magnitude of the need for the services to be provided or the activities to be carried out by the proposed project;

(ii) The extent to which the proposed project will prepare personnel for fields in which shortages have been demonstrated; and

(iii) The potential replicability of the proposed project or strategies, including, as appropriate, the potential for implementation in a variety of settings.

(b) Quality of the project design. (20 points)

(1) The Secretary considers the quality of the design of the proposed project.

(2) In determining the quality of the design of the proposed project, the Secretary considers the following factors:

(i) The extent to which the goals, objectives, and outcomes to be achieved by the proposed project are clearly specified and measurable;

(ii) The extent to which the design for implementing and evaluating the proposed project will result in information to guide possible replication of project activities or strategies, including information about the effectiveness of the approach or strategies employed by the project;

(iii) The extent to which the proposed project is designed to build capacity and yield results that will extend beyond the period of Federal financial assistance;

(iv) The extent to which the design of the proposed project reflects up-to-date knowledge from research and effective practice; and

(v) The extent to which performance feedback and continuous improvement are integral to the design of the proposed project.

(c) Quality of project services. (25 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The likely impact of the services to be provided by the proposed project on the intended recipients of those services;

(ii) The extent to which the services to be provided by the proposed project involve the collaboration of appropriate partners for maximizing the effectiveness of project services;

(iii) The extent to which the training or professional development services to be provided by the proposed project are of sufficient quality, intensity, and duration to lead to improvements in practice among the recipients of those services; and

(iv) The extent to which the results of the proposed project are to be disseminated in ways that will enable others to use the information or strategies.

(d) Quality of the project evaluation. (25 points)

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation will provide valid and reliable performance data on relevant outcomes (as defined in 34 CFR 77.1(c));

(iii) The extent to which the methods of evaluation will, if well implemented, produce promising evidence (as defined in 34 CFR 77.1(c)) about the project's effectiveness;

(iv) The extent to which the methods of evaluation include the use of objective performance measures that are clearly related to the intended outcomes of the project and will produce quantitative and qualitative data to the extent possible;

(v) The qualifications, including relevant training, experience, and independence, of the evaluator;

(vi) The extent to which the methods of evaluation provide for examining the effectiveness of project implementation strategies; and

(vii) The extent to which the methods of evaluation will provide performance feedback and permit periodic assessment of progress toward achieving intended outcomes.

(e) Quality of the management plan. (20 points)

(1) The Secretary considers the quality of the management plan for the proposed project.

(2) In determining the quality of the management plan for the proposed project, the Secretary considers the following factors:

(i) The adequacy of the management plan to achieve the objectives of the proposed project on time and within budget, including clearly defined responsibilities, timelines, and milestone for accomplishing project tasks;

(ii) The extent to which the time commitments of the project director and principal investigator and other key project personnel are appropriate and adequate to meet the objectives of the proposed project;

(iii) The adequacy of procedures for ensuring feedback and continuous improvement in the operation of the proposed project; and

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may approve a data collection period for a grant for a period of up to 72 months after the end of the project period and provide funding, separate from this funding opportunity, for the data collection period for the sole purpose of collecting, analyzing, and reporting performance measurement data regarding the project.

5. Performance Measures: For the purposes of Department reporting under 34 CFR 75.110, grantees must submit information to allow measurement of project outcomes and performance consistent with its approved application. For the Braille Training program, a grantee must collect and report information on:

(a) The number of participants who attend the program disaggregated by adults and youth.

(b) The number of participants who successfully complete the program disaggregated by adults and youth.

(c) The number of personnel who attend the program.

(d) The number of personnel who successfully complete the program.

(e) The number of trained personnel who subsequently report obtaining or advancing in positions where they provide braille instruction to blind youth and adults following completion of the program.

Grantees are required to report annually to the Rehabilitation Services Administration (RSA) on these data.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-05290 Filed 3-12-24; 8:45 am]

BILLING CODE 4000-01-P